ENVIRONMENTAL PROTECTION AGENCY

40 CFR Part 60

[EPA-HQ-OAR-2009-0559; FRL-9664-9]

RIN 2060-AP90

Denial of Reconsideration Petitions on Standards of Performance for New Stationary Sources and Emission Guidelines for Existing Sources: Sewage Sludge Incineration Units

AGENCY: Environmental Protection Agency (EPA).

ACTION: Denial of petitions for reconsideration.

SUMMARY: The EPA is providing notice that it has denied two petitions for reconsideration of a final rule published in the Federal Register on March 21, 2011. The rule established new source performance standards and emission guidelines for sewage sludge incineration units located at wastewater treatment facilities designed to treat domestic sewage sludge, and was issued pursuant to the EPA's authority under Clean Air Act section 129 to regulate solid waste incineration units. After publication of the rule, the EPA received petitions for reconsideration of the final rule from the National Association of Clean Water Agencies (NACWA) (dated May 24, 2011) and the Sierra Club (dated May 20, 2011). After carefully considering the petitions and supporting information, in reaching a decision on the petitions, EPA Administrator Lisa P. Jackson denied the petitions for reconsideration on April 6, 2012, in separate letters to the petitioners. EPA denied the petitions because they fail to meet the procedural test for reconsideration under CAA section 307(d)(7)(B), and/or are not of central relevance to the outcome of the rule, both of which are necessary conditions precedent to granting reconsideration. The letters explain in detail EPA's reasons for the denials.

FOR FURTHER INFORMATION CONTACT: Ms. Amy Hambrick, Sector Policies and Programs Division (E143-03), Office of Air Quality Planning and Standards, Environmental Protection Agency, Research Triangle Park, North Carolina 27711; telephone number: (919) 541-0964; fax number: (919) 541-3470; email address: hambrick.amy@epa.gov.

SUPPLEMENTARY INFORMATION:

I. How can I get copies of this document and other related information?

This Federal Register notice, the petitions for reconsideration, and the letters denying the petitions for reconsideration are available in the docket that the EPA established for the “Standards of Performance for New Stationary Sources and Emission Guidelines for Existing Sources: Sewage Sludge Incineration Units” under Docket ID No. EPA-HQ-OAR-2009-0559. The document identification numbers for the petitions for reconsideration are: Sierra Club, EPA-HQ-OAR-2009-0559-0173; and NACWA, EPA-HQ-OAR-2009-0559-0174 (petition). The document identification number for EPA's response letters are EPA-HQ-OAR-2009-0559-0181. All documents in the docket are listed on the www.regulations.gov Web site. Although listed in the index, some information is not publicly available, e.g., confidential business information or other information whose disclosure is restricted by statute. Certain other material, such as copyrighted material, is not placed on the Internet and will be publicly available only in hard copy form. Publicly available docket materials are available either electronically through www.regulations.gov or in hard copy at the EPA Docket Center (Air Docket), EPA/DC, EPA West, Room 3334, 1301 Constitution Ave. NW., Washington, DC. The Public Reading Room is open from 8:30 a.m. to 4:30 p.m., Monday through Friday, excluding legal holidays. The telephone number for the Public Reading Room is (202) 566-1744 and the telephone number for the Air Docket is (202) 566-1742.

This Federal Register notice, the petitions for reconsideration and the letters denying the petitions can also be found on the EPA's Web site at http://www.epa.gov/ttn/atw/129/ssi/ssipg.html. The “Standards of Performance for New Stationary Sources and Emission Guidelines for Existing Sources: Sewage Sludge Incineration Units” rules were published in the Federal Register on March 21, 2011, at 76 FR 15372.

II. Judicial Review

Any petitions for review of the letters denying the petitions for reconsideration described in this Notice must be filed in the Court of Appeals for the District of Columbia Circuit by June 26, 2012.

List of Subjects in 40 CFR Part 60

Environmental protection, Administrative practice and procedure, Air pollution control, Intergovernmental relations, Reporting and recordkeeping requirements.

Dated: April 18, 2012.
Lisa P. Jackson,
Administrator.

[FR Doc. 2012-10098 Filed 4-26-12; 8:45 am]

BILLING CODE 6560-50-P